DEPARTMENT OF AGRICULTURE

Animal and Plant Health Inspection Service

[Docket No. APHIS-2010-0009]

Notice of Request for Extension of Approval of an Information Collection; Communicable Diseases in Horses

Correction

In notice document 2010-9054 on page 20559 in the issue of April 20, 2010, make the following correction:

On page 20559, in the third column, “Estimated annual number of responses per respondent: 197,124.” should read “Estimated annual number of responses per respondent: 197.124.”

[FR Doc. C1-2010-9054 Filed 4-23-10; 8:45 am]

BILLING CODE 1505-01-D